DEPARTMENT OF HEALTH AND HUMAN SERVICES

Agency for Toxic Substances and Disease Registry

[ATSDR-158]

Public Health Assessments Completed

AGENCY: Agency for Toxic Substances and Disease Registry (ATSDR), Department of Health and Human Services (HHS).

ACTION: Notice.

SUMMARY: This notice announces those sites for which ATSDR has completed public health assessments during the period from January through March 2000. This list includes sites that are on or proposed for inclusion on the National Priorities List (NPL), and includes sites for which assessments were prepared in response to requests from the public.

FOR FURTHER INFORMATION CONTACT: Robert C. Williams, P.E., DEE, Assistant Surgeon General, Director, Division of Health Assessment and Consultation, Agency for Toxic Substances and Disease Registry, 1600 Clifton Road, NE., Mailstop E-32, Atlanta, Georgia 30333, telephone (404) 639-0610.

SUPPLEMENTARY INFORMATION: The most recent list of completed public health assessments was published in the Federal Register on March 21, 2000 (65 FR15163). This announcement is the responsibility of ATSDR under the regulation, Public Health Assessments and Health Effects Studies of Hazardous Substances Releases and Facilities (42 CFR part 90). This rule sets forth ATSDR's procedures for the conduct of public health assessments under section 104(i) of the Comprehensive Environmental Response, Compensation, and Liability Act (CERCLA), as amended by the Superfund Amendments and Reauthorization Act (SARA) (42 U.S.C. 9604(i)).

Availability

The completed public health assessments and addenda are available for public inspection at the Division of Health Assessment and Consultation, Agency for Toxic Substances and Disease Registry, Building 33, Executive Park Drive, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (703) 605-6000. NTIS charges for copies of public health assessments and addenda. The NTIS order numbers are listed in parentheses following the site names.

Public Health Assesssments Completed or Issued

Between January 1 and March 31, 2000 public health assessments were issued for the sites listed below:

NPL Sites

Arizona

Klondyke Tailings (a/k/a Aravaipa Creek Mine Tailings)—Klondyke—(PB20-103287)

Tucson International Airport Area (a/k/a ElVado Residential Properties)—Tucson—(PB20-104079)

Colorado

Air Force Plant PJKS—Wateron—(PB20-105008)

Connecticut

Upjohn Co-Fine Chemicals Division—North Haven—(PB20-104239)

Illinois

Indian Refinery-Texaco Lawrenceville (a/k/a Texaco

Incorporated Lawrenceville Refinery)—Lawrenceville—(PB20-105551)

Parsons Casket Hardware Company—Belvidere—(PB20-103235)

Indiana

Vickers Warehouse Site—Anderson—(PB20-103286)

Kansas

Fort Riley (a/k/a Fort Riley Military Reservation)—Fort Riley—(PB20-104840)

Michigan

Lafarge Corporation-Alpena Plant—Alpena—(PB20-104078)

New York

Seneca Army Depot—Romulus—(PB20-104790)

Pennsylvania

Callery Chemical Company—Evans City—(PB20-104502)

Tennessee

Jersey Miniere Zinc Company (a/k/a Pasminco Clarksville Zinc Plant)—Clarksville—(PB20-104503)

Texas

City of Perryton Well No.2 (a/k/a Perryton Water Well Number 2)—Perryton—(PB20-103408)

Many Diversified Interests, Incorporated—Houston—(PB20-104791)

Non NPL Petitioned Sites

Massachusetts

Morse Cutting Tools—New Bedford—(PB20-105552)

Rock Avenue 21-E Dump (a/k/a Rock Avenue 21-E-Dump Site)—Winchester—(PB20-100632)

Dated: June 8, 2000.
Georgi Jones,
Director, Office of Policy and External Affairs, Agency for Toxic Substances and Disease Registry.

[FR Doc. 00-14940 Filed 6-13-00; 8:45 am]

BILLING CODE 4163-70-P